Proclamation 7825 of October 4, 2004

Child Health Day, 2004

By the President of the United States of America

A Proclamation

Parents play a vital role in keeping their children healthy, and when it comes to helping children make right choices, there is work for all Americans to do. Parents, teachers, faith-based and community groups, and government leaders are working together to counter the negative influences in today's culture, highlight the benefits of healthy lifestyles, and educate children about the consequences of their actions.

By promoting good nutrition and regular physical activity, parents help their children perform better in the classroom and live healthy lives. To encourage healthy families, my Administration is helping young people learn the simple steps to live better through the HealthierUS Initiative and the President's Challenge awards program. These programs encourage young people to eat a nutritious diet rich in fruits and vegetables and to set aside time every day for physical activity, such as playing sports, biking, or even helping with yard work at home. Encouraging healthy habits early in life helps give children a head start and gives them the best chance of reaching their potential.

Our youth are challenged with tough choices. We must continue to promote responsibility among our Nation's young people by providing them with the knowledge they need to make the right decisions concerning drug and alcohol use. My Administration supports education programs that address these issues. Through the National Youth Anti-Drug Media Campaign and Drug-Free Communities Program, we are working to ensure that young people understand the serious risks and consequences of substance abuse. And in order to help kids who need help, my Administration supports random drug testing as a prevention tool. We have also increased support for abstinence-only education programs, including grants for community and faith-based organizations, because abstinence is the only sure way to prevent teenage pregnancy and sexually transmitted diseases.

We all have an important role in giving America's children a healthy start in life by teaching them that the decisions they make today will affect them for the rest of their lives. By helping them make the right choices, we better prepare them for a hopeful future.

The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 4, 2004, as Child Health Day. I call upon families, schools, child health professionals, faith-based and community organizations, and governments to help all our children discover the rewards of good health and wellness.

IN WITNESS WHEREOF, I have hereunto set my hand this fourth day of October, in the year of our Lord two thousand four, and of the Independence of the United States of America the two hundred and twenty-ninth.

B

[FR Doc. 04-22758

Filed 10-6-04; 8:45 am]

Billing code 3195-01-P